DEPARTMENT OF TRANSPORTATION

Surface Transportation Board

[STB Finance Docket No. 34318]

Union Pacific Railroad Company—Trackage Rights Exemption—Midwest Generation, LLC

Midwest Generation, LLC (Midwest), pursuant to a written trackage rights agreement entered into between Midwest and Union Pacific Railroad Company (UP), has agreed to grant local trackage rights to UP over Midwest's entire line of railroad, approximately 4,007 feet long in Will County, IL, extending from Midwest's power plant in Joliet, IL, to a connection with nearby track owned by UP.¹

¹ Construction of the track at issue (Midwest's entire line) was authorized by the Board in Midwest Generation, LLC—Exemption From 49 U.S.C. 10901—For Construction in Will County, IL, STB Finance Docket No. 34060, et al., (STB served Oct. 4, 2002). UP indicates that part of the construction for the proposed trackage rights was recently completed and part will be constructed in the future.

The transaction was scheduled to be consummated on March 1, 2003. The earliest the transaction could have been consummated was February 28, 2003, the effective date of the exemption (7 days after the exemption was filed).

The purpose of the proposed trackage rights is to enable UP to deliver coal to Midwest's plant without interchanging its traffic to Illinois Central Railroad Company.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34318, must be filed with the Surface Transportation Board, 1925 K Street, NW., Washington, DC 20423-0001. In addition, one copy of each pleading must be served on Robert T. Opal, 1416 Dodge Street, Room 830, Omaha, NE 68179.

Board decisions and notices are available on our Web site at http://www.stb.dot.gov.

Decided: March 3, 2003.
By the Board, David M. Konschnik, Director, Office of Proceedings.
Vernon A. Williams,
Secretary.

[FR Doc. 03-5447 Filed 3-7-03; 8:45 am]

BILLING CODE 4915-00-P